DEPARTMENT OF TRANSPORTATION

Federal Railroad Administration

49 CFR Part 234

[Docket No. FRA-2009-0032, Notice No. 4]

RIN 2130-AC20

State Highway-Rail Grade Crossing Action Plans

AGENCY: Federal Railroad Administration (FRA), Department of Transportation (DOT).

ACTION: Notice of public hearing and extension of comment period.

SUMMARY: By notice of proposed rulemaking (NPRM) published on November 13, 2009 (74 FR 58589), FRA proposed a rule to require the ten States with the most highway-rail grade crossing collisions, on average, over the past three years, to develop State highway-rail grade crossing action plans. This document announces a public hearing to provide interested parties the opportunity to comment on the NPRM and announces a fourteen (14) day extension of the comment period, which closed December 14, 2009, to commence on the date of the public hearing. The extension provides interested parties the opportunity to comment on the NPRM and to respond to matters that arise at the public hearing related to the NPRM.

DATES: (1) Public Hearing: A public hearing will be held on the date and at the location listed below to provide interested parties the opportunity to comment on the proposed rule contained in the NPRM. A fourteen (14) day extension of the comment period will commence on the date of the hearing. The date of the public hearing is as follows: Monday, February 22, 2010, at 9:30 a.m. in Washington, DC.

(2) Extension of Comment Period: The comment period will reopen Monday, February 22, 2010 and written comments must be received by Monday, March 8, 2010. Comments received after that date will be considered to the extent possible without incurring additional expenses or delays.

ADDRESSES: (1) Public Hearing: The public hearing will be held at the following location: Washington, DC: Washington Plaza Hotel, Ten Thomas Circle, Washington, DC 20005.

(2) Extension of Comment Period: Comments related to Docket No. FRA-2009-0032, may be submitted by any of the following methods:

• Fax: 1-202-493-2251;

• Mail: U.S. Department of Transportation, Docket Operations, M-30, West Building Ground Floor, Room W12-140, 1200 New Jersey Avenue, SE., Washington, DC 20590;

• Hand Delivery: U.S. Department of Transportation, Docket Operations, West Building Ground Floor, Room W12-140, 1200 New Jersey Avenue, SE., Washington, DC 20590, between 9 a.m. and 5 p.m., Monday through Friday, except Federal holidays; or

• Electronically through the Federal eRulemaking Portal, http://www.regulations.gov. Follow the online instructions for submitting comments.

Instructions: All submissions must include the agency name, docket name, and docket number or Regulatory Identification Number (RIN) for this rulemaking. Note that all comments received will be posted without change to http://www.regulations.gov, including any personal information provided. Please see the Privacy Act section of this document.

Docket: For access to the docket to read background documents or comments received, go to http://www.regulations.gov at any time or to U.S. Department of Transportation, Docket Operations, M-30, West Building Ground Floor, Room W12-140, 1200 New Jersey Avenue, SE., Washington, DC, between 9 a.m. and 5 p.m., Monday through Friday, except Federal holidays.

FOR FURTHER INFORMATION CONTACT: Ron Ries, Office of Safety, FRA, 1200 New Jersey Ave. SE., RRS-23, Mail Stop 25, Washington, DC 20590 (Telephone 202-493-6299), or Zeb Schorr, Trial Attorney, Office of Chief Counsel, FRA, 1200 New Jersey Ave., SE., Mail Stop 10, Washington, DC 20590 (Telephone 202-493-6072).

SUPPLEMENTARY INFORMATION: FRA has received written comments submitted by interested parties related to various parts of the NPRM and written requests for a hearing regarding the NPRM. FRA is holding a public hearing to permit the exchange of information and concerns regarding FRA's proposed rule. The public hearing is meant to allow interested parties to fully develop and articulate the issues and concerns they have with the NPRM so that these concerns can be fully addressed in any final rule that is developed. Interested parties are invited to present oral statements and proffer evidence at the hearing. The hearing will be informal and will be conducted by a representative designated by FRA in accordance with FRA's Rules of Practice (49 CFR 211.25). The hearing will be a non-adversarial proceeding; as such, there will be no cross-examination of persons presenting statements or proffering evidence. An FRA representative will make an opening statement outlining the scope of the hearing. After all initial statements have been completed, those persons wishing to make a brief rebuttal will be given the opportunity to do so in the same order in which the initial statements were made. Additional procedures, as necessary for the conduct of the hearing, will be announced at the hearing.

On February 22, 2010, the comment period for the NPRM will reopen for fourteen (14) days so that FRA can make the public hearing transcript available for review and comment by the general public, interested parties can provide additional comments and documents related to the NPRM, and interested parties can provide responses to matters that arise at the public hearing.

Public Participation Procedures

Any person wishing to participate in the public hearing should notify the FRA's Docket Clerk by mail, Michelle Silva, Office of Chief Counsel, FRA, 1200 New Jersey Ave. SE., Room W31-109, Washington, DC 20590, or e-mail (Michelle.Silva@dot.gov), or at the fax number 202-493-6068, at least five (5) working days prior to the date of the hearing. The notification should identify the party the person represents, and the particular subject(s) the person plans to address. The notification should also provide the Docket Clerk with the participant's mailing address and other contact information. FRA reserves the right to limit participation in the hearing by persons who fail to provide such notification.

Privacy Act

FRA wishes to inform all potential commenters that anyone is able to search the electronic form of all comments received into any agency docket by the name of the individual submitting the comment (or signing the comment, if submitted on behalf of an association, business, labor union, etc.). You may review DOT's complete Privacy Act Statement in the Federal Register published on April 11, 2000 (65 FR 19477-78) or you may visit http://www.regulations.gov/search/footer/privacyanduse.jsp.

Issued in Washington, DC, on January 11, 2010.
Grady C. Cothen, Jr.,
Deputy Associate Administrator for Safety Standards and Program Development, Federal Railroad Administration.

[FR Doc. 2010-684 Filed 1-14-10; 8:45 am]

BILLING CODE 4910-06-P